NUCLEAR REGULATORY COMMISSION

[Docket No. 50-336 and 50-423 ASLBP No. 04-824-01-LR]

Dominion Nuclear Connecticut; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Dominion Nuclear Connecticut (Millstone Nuclear Power Station, Units 2 and 3)

Pursuant to a March 8, 2004 notice of opportunity for hearing published in the Federal Register (69 FR 11,897 (Mar. 12, 2004)), and a May 4, 2004 Commission memorandum and order, CLI-04-12, 59 NRC_(May 4, 2004), a Licensing Board is being established to conduct a proceeding on the March 22, 2004 hearing petition of Connecticut Coalition Against Millstone (CCAM) regarding the January 22, 2004 Dominion Nuclear Connecticut applications for renewal of the Millstone Units 2 and 3 operating licenses.

The Board is comprised of the following administrative judges:

Dr. Paul B. Abramson, Chair, Atomic Safety and Licensing Board Panel, U.S. Nuclear Regulatory Commission, Washington, DC 20555-0001.

Ann Marshall Young, Atomic Safety and Licensing Board Panel, U.S. Nuclear Regulatory Commission, Washington, DC 20555-0001.

Dr. Richard F. Cole, Atomic Safety and Licensing Board Panel, U.S. Nuclear Regulatory Commission, Washington, DC 20555-0001.

All correspondence, documents, and other materials shall be filed with the administrative judges in accordance with 10 CFR 2.302.

Issued at Rockville, Maryland, this 19th day of May 2004.
G. Paul Bollwerk, III,
Chief Administrative Judge, Atomic Safety and Licensing Board Panel.

[FR Doc. 04-11755 Filed 5-24-04; 8:45 am]

BILLING CODE 7590-01-P